DEPARTMENT OF HEALTH AND HUMAN SERVICES

Health Resources and Services Administration

Advisory Council; Notice of Meeting

In accordance with section 10(a)(2) of the Federal Advisory Committee Act (Public Law 92-463), announcement is made of the following National Advisory body scheduled to meet during the month of April 2001:

Name: Council on Graduate Medical Education (COGME).

Date and Time: April 11, 2001, 8:30 a.m.-4:30 p.m.; April 12, 2001, 8:30 a.m.-2:00 p.m.

Place: Holiday Inn, 8120 Wisconsin Avenue, Bethesda, MD 20814.

The meeting is open to the public.

Agenda: The agenda for the first day, April 11, will include: Welcome and opening comments from the Administrator, Health Resources and Services Administration, the Associate Administrator for Health Professions, and the Acting Executive Secretary of COGME. The Council will present a one-day stakeholders meeting in which presenters will be given the opportunity to respond to the recommendations put forth in the recently published COGME 15th Report, Financing Graduate Medical Education in a Changing Health Care Environment. Representative stakeholders have been invited to present their perspectives in a series of panels. This will be followed by the opportunity for other interested stakeholders to comment during an open forum. Those wishing to speak must contact Ms. Hannah Davis at 301-443-7095 no later than April 4 to be included in the open forum.

The agenda for the second day, April 12, will include a report on the recent Fifth International Medical Workforce Conference held in Australia. The GME Financing and Physician Workforce workgroups will meet and report back to the full Council. There will be a discussion of future Council projects.

Anyone requiring information regarding the meeting should contact Stanford M. Bastacky, D.M.D., M.H.S.A., Acting Executive Secretary, Council on Graduate Medical Education, Division of Medicine and Dentistry, Bureau of Health Professions, Room 9A-27, Parklawn Building, 5600 Fishers Lane, Rockville, Maryland 20857; telephone (301) 443-6326.

Agenda items are subject to change as priorities dictate.

Dated: March 5, 2001.
James J. Corrigan,
Associate Administrator for Management and Program Support.

[FR Doc. 01-5817 Filed 3-8-01; 8:45 am]

BILLING CODE 4160-15-P